DEPARTMENT OF JUSTICE

Antitrust Division

Notice Pursuant to the National Cooperative Research and Production Act of 1993—Information Warfare Research Project Consortium

Notice is hereby given that, on October 21, 2020, pursuant to Section 6(a) of the National Cooperative Research and Production Act of 1993, 15 U.S.C. 4301 et seq. (“the Act”), Maritime Sustainment and Technology Innovation Consortium (“MSTIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Adaptive Intelligence [AI] Corporation, Banks, OR; ANDRO Computational Solutions, LLC, Rome, NY; Applied Engineering Concepts, Incorporated, Eldersburg, MD; Ashwin-Ushas Corporation, Holmdel, NJ; Colvin Run Networks Inc., Leesburg, VA; Delphinus Engineering, Inc., Eddystone, PA; EHS Technologies Corporation, Moorestown, NJ; Green Expert Technology, Haddonfield, NJ; HII Fleet Support Group LLC, Virginia Beach, VA; Huntington Ingalls Industries Inc., Newport News, VA; ITL LLC., Hampton, VA; Kern Technology Group, LLC, Virginia Beach, VA; Life Cycle Engineering, Inc., North Charleston, SC; LMI Consulting, LLC, Tysons Corner, VA; Lockheed Martin Corporation—Missiles and Fire Control, Orlando, FL; Main Sail, LLC, Chesterland, OH; Makai Ocean Engineering, Inc., Waimanalo, HI; Micro Focus Government, Solutions LLC, Vienna, VA; NDI Engineering Company, Thorofare, NJ; nGAP Inc., Bonsall, CA; Peregrine Technical Solutions, LLC, Yorktown, VA; Perspecta Labs, Basking Ridge, NJ; Polaris Sensor Technologies, Huntsville, AL; Precision Custom Components, York, PA; QED Systems Inc., Virginia Beach, VA; R Squared Solutions, LLC, Chesapeake, VA; SERCO Inc., Herndon, VA; Siemens Energy, Inc./Marine Solutions, Alpharetta, GA; Southeastern Computer Consultants, Inc., Frederick, MD; Southwest Research Institute, Antonio, TX; Stottler Henke Associates, Inc., San Mateo, CA; TDI Technologies, Inc., King of Prussia, PA; Technical Systems Integrators, Inc., Longwood, FL; and Techtrend, Fairfax, VA.

The general area of MSTIC's planned activities are to respond to requirements of the Naval Surface Warfare Center, Philadelphia Division (NSWCPD) for innovative sustainment technological solutions to address current and future security threats in maritime environments including the Navy's ships, submarines, military watercraft and unmanned vehicles. MSTIC's planned activity is to conduct research, development, and prototyping of projects and programs in the following technology areas: COTS Obsolescence and Tech Refresh Product Development; Data Transformation; Cyber; Fleet Introduction Technologies; Waterfront Industry Support Operations; Develop Asset Fabrication, Revitalization (Remanufacturing) and Packaging Innovations; Logistic Supply Chain Management; and Research and Development. The consortium was formed effective August 21, 2020.

Suzanne Morris,
Chief, Premerger and Division Statistics, Antitrust Division.

[FR Doc. 2020-25577 Filed 11-18-20; 8:45 am]

BILLING CODE 4410-11-P